DEPARTMENT OF LABOR

Occupational Safety and Health Administration

[Docket No. OSHA-2007-0039]

Intertek Testing Services NA, Inc.: Grant of Renewal of Recognition

AGENCY: Occupational Safety and Health Administration (OSHA), Labor.

ACTION: Notice.

SUMMARY: This notice announces the Occupational Safety and Health Administration's final decision granting renewal of recognition of Intertek Testing Services NA, Inc., as a Nationally Recognized Testing Laboratory (NRTL) under 29 CFR 1910.7.

DATES: The renewal of recognition becomes effective on July 14, 2014.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: Meilinger.francis2@dol.gov.

General and technical information: Contact Mr. David Johnson, Director, Office of Technical Programs and Coordination Activities, Directorate of Technical Support and Emergency Management, Occupational Safety and Health Administration, U.S. Department of Labor, 200 Constitution Avenue NW., Room N-3655, Washington, DC 20210; telephone: (202) 693-2110; email: johnson.david.w@dol.gov. OSHA's Web page includes information about the NRTL Program (see http://www.osha.gov/dts/otpca/nrtl/index.html).

SUPPLEMENTARY INFORMATION:

I. Background

OSHA recognition of an NRTL signifies that the organization meets the requirements specified by 29 CFR 1910.7. Recognition is an acknowledgment that the organization can perform independent safety testing and certification of the specific products covered within its scope of recognition, and is not a delegation or grant of government authority. As a result of recognition, employers may use products properly approved by the NRTL to meet OSHA standards that require testing and certification. OSHA maintains an informational Web site for each NRTL at http://www.osha.gov/dts/otpca/nrtl/index.html that details its scope of recognition.

OSHA processes applications submitted by an NRTL for renewal of recognition following requirements in Appendix A to 29 CFR 1910.7. OSHA conducts renewals in accordance with the procedures in 29 CFR 1910.7, App. A II.C. In accordance with these procedures, NRTLs submit a renewal request to OSHA between nine months and one year before the expiration date of its current recognition. A renewal request includes a request for renewal and any additional information demonstrating its continued compliance with the terms of its recognition and 29 CFR 1910.7. If OSHA has not conducted an on-site assessment of the NRTL headquarters and any key sites within the past 18 to 24 months, it will schedule the necessary on-site assessment prior to the expiration date of the NRTL's recognition. Upon review of the submitted material and, as necessary, the successful completion of the on-site assessment, OSHA announces its preliminary decision to grant or deny renewal in the Federal Register and solicits comments from the public. OSHA then publishes a final Federal Register notice responding to any comments and renewing the NRTL's recognition for a period of five years, or denying the renewal of recognition.

Intertek Testing Services NA, Inc. (ITSNA), initially received OSHA recognition as an NRTL on September 13, 1989 (54 FR 37845). The most recent renewal for ITSNA was on May 29, 2001, for a five-year period expiring on May 29, 2006. ITSNA submitted a timely request for renewal, dated August 25, 2005 (see Ex. OSHA-2007-0039-0015), and retained its recognition pending OSHA's final decision in this renewal process. The current addresses of ITSNA facilities recognized by OSHA and included as part of the renewal request are:

1. ITSNA Cortland, 3933 U.S. Route 11, Cortland, New York 13045;

2. ITSNA Atlanta, 1950 Evergreen Boulevard, Duluth, Georgia 30096;

3. ITSNA Boxborough, 70 Codman Hill Road, Boxborough, Massachusetts 01719;

4. ITSNA Lexington, 731 Enterprise Drive, Lexington, Kentucky 40510;

5. ITSNA San Francisco, 1365 Adams Court, Menlo Park, California 94025;

6. ITSNA Los Angeles, 25791 Commercentre Drive, Lake Forest, California 92630;

7. ITSNA Minneapolis, 7250 Hudson Boulevard, Suite 100, Oakdale, Minnesota 55128;

8. ITSNA Madison, 8431 Murphy Drive, Middleton, Wisconsin 53562;

9. ITSNA SEMKO, Box 1103, S-164 #22, Kista, Stockholm, Sweden;

10. ITSNA Chicago, 545 East Algonquin Road, Suite F, Arlington Heights, Illinois 60005;

11. ITSNA Hong Kong, 2/F., Garment Centre, 576 Castle Peak Road, Kowloon, Hong Kong;

12. ITSNA Vancouver, 1500 Brigantine Drive, Coquitlam, British Columbia, Canada V3K 7C1;

13. ITSNA Fairfield, 41 Plymouth Street, Fairfield, New Jersey 07004; and

14. ITSNA Dallas, 1809 10th Street, Suite 400, Plano, Texas 75074.

OSHA evaluated ITSNA's application for renewal and made a preliminary determination that ITSNA can continue to meet the requirements prescribed by 29 CFR 1910.7 for recognition. OSHA conducted audits of the: ITSNA Cortland site on August 25-27, 2009 and June 18-19, 2008; ITSNA Atlanta site on March 12-13, 2008; ITSNA Boxborough site on March 21-22, 2013; ITSNA San Francisco site on April 23-24, 2012; ITSNA Hong Kong site on August 19-21, 2013; ITSNA Vancouver site on October 16-17, 2008; and ITSNA Dallas site on March 1-2, 2013. OSHA found non-conformances with the requirements of 29 CFR 1910.7. ITSNA addressed these issues sufficiently to meet the applicable NRTL requirements. Accordingly, OSHA determined that it did not need to conduct an on-site review of ITSNA's facilities for this request for renewal based on its evaluation of ITSNA's application and all other available information.

OSHA published the preliminary notice announcing ITSNA's renewal request in the Federal Register on February 24, 2014 (79 FR 10196). The Agency requested comments by March 11, 2014, but received no comments in response to this notice. OSHA now is proceeding with this final notice to grant ITSNA's request for renewal of recognition.

To obtain or review copies of all public documents pertaining to the ITSNA's application, go to www.regulations.gov or contact the Docket Office, Occupational Safety and Health Administration, U.S. Department of Labor, 200 Constitution Avenue NW., Room N-2625, Washington, DC 20210. Docket No. OSHA-2007-0039 contains all materials in the record concerning ITSNA's recognition.

II. Final Decision and Order

Pursuant to the authority granted under 29 CFR 1910.7, OSHA hereby gives notice of the renewal of recognition of ITSNA as an NRTL. OSHA NRTL Program staff reviewed the renewal request for ITSNA and other pertinent information. Based on this review of the renewal request for ITSNA and other pertinent information, OSHA finds that ITSNA meets the requirements of 29 CFR 1910.7 for renewal of its recognition, subject to the specified limitation and conditions. OSHA limits the renewal of ITSNA's recognition to include the terms and conditions of ITSNA's scope of recognition. The scope of recognition for ITSNA is available in the Federal Register notice dated September 13, 1989 (54 FR 37845), or on OSHA's Web site at http://www.osha.gov/dts/otpca/nrtl/its.html.

Conditions

In addition to those conditions already required by 29 CFR 1910.7, ITSNA also must abide by the following conditions of recognition:

1. ITSNA must inform OSHA as soon as possible, in writing, of any change of ownership, facilities, or key personnel, and of any major change in its operations as an NRTL, and provide details of the change(s);

2. ITSNA must meet all the terms of its recognition and comply with all OSHA policies pertaining to this recognition; and

3. ITSNA must continue to meet the requirements for recognition, including all previously published conditions on ITSNA's scope of recognition, in all areas for which it has recognition.

III. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on July 9, 2014.
David Michaels,
Assistant Secretary of Labor for Occupational Safety and Health.

[FR Doc. 2014-16428 Filed 7-11-14; 8:45 am]

BILLING CODE 4510-26-P